DEPARTMENT OF HEALTH AND HUMAN SERVICES

Administration for Children and Families

Proposed Information Collection Activity; Extension of Assets for Independence (AFI) Performance Progress Report (PPR) (OMB #0970-0483)

AGENCY: Office of Community Services; Administration for Children and Families; HHS.

ACTION: Request for public comment.

SUMMARY: The Office of Community Services (OCS), Administration for Children and Families (ACF) is requesting approval of a three-year extension of the Assets for Independence (AFI) Performance Progress Report (PPR) Long Form and AFI PPR Short Form (OMB #0970-0483, expiration 8/31/2019). There are no changes requested to the forms.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The Assets for Independence (AFI) Act (Title IV of the Community Opportunities, Accountability, and Training and Educational Services Act of 1998, Pub. L. 105-285, [42 U.S.C. 604 note]) requires that organizations operating AFI projects submit annual progress reports.

This request is for approval and extension of the current AFI PPR that expires August 31, 2019. OCS will continue to use the data collected in the AFI PPR to prepare the annual AFI Report to Congress, to evaluate and monitor the performance of the AFI program overall and of individual projects, and to inform and support technical assistance efforts. The AFI PPR will continue to fulfill AFI Act reporting requirements and program purposes.

AFI program grantees are required to submit Standard Form Performance Progress Reports (SF-PPR) semiannually: One time per year using an abbreviated short form and one time using a long form. Both data collection instruments are available for review online at: https://www.acf.hhs.gov/ocs/resource/afi-ppr-long-form, https://www.acf.hhs.gov/ocs/resource/afi-ppr-short-form.

Note: This request does not affect financial reporting requirements for AFI grantees. The SF-425 will still be required semiannually throughout the grant project period with a final report due 90 days after the grant project period ends.

Respondents: Assets for Independence (AFI) program grantees.

Annual Burden Estimates
Instrument | Total number of respondents | Annual number of responses per respondent | Average burden hours per response | Annual burden hours
AFI PPR Short Form | 145 | 1 | 0.5 | 72.5
AFI PPR Long Form | 145 | 1 | 3.8 | 551

Estimated Total Annual Burden Hours: 623.5.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Pub. L. 105-285, [42 U.S.C. 604 note].

Mary B. Jones,
ACF/OPRE Certifying Officer.

[FR Doc. 2019-10863 Filed 5-23-19; 8:45 am]

BILLING CODE 4184-24-P